OFFICE OF THE UNITED STATES TRADE REPRESENTATIVE

DEPARTMENT OF COMMERCE

International Trade Administration

[Docket Number: 100416189-0189-01]

Request for Public Comment on the Scope of Viewpoints Represented on the Industry Trade Advisory Committees

AGENCIES: Office of the United States Trade Representative and U.S. Department of Commerce, International Trade Administration.

ACTION: Notice, request for public comment.

SUMMARY: The Office of the United States Trade Representative (USTR) and the Department of Commerce have initiated a joint review of the Industry Trade Advisory Committee (ITAC) component of the trade advisory committee system. As part of this joint review, USTR and Commerce are seeking comments and suggestions from the public on the appropriate scope of representation on the ITACs.

DATES: Written comments are due by 5 p.m. Eastern Standard Time (EST) on May 25, 2010.

ADDRESSES: You may send comments identified by Docket Number ITA-2010-0001, using any of the following methods:

• Federal eRulemaking Portal: Go to http://www.regulations.gov. Please see the SUPPLEMENTARY INFORMATION for more information and instructions for sending your comments electronically.

• For alternatives to online submission please contact Ingrid Mitchem, Director, Industry Trade Advisory Center, at (202) 482-3268.

FOR FURTHER INFORMATION CONTACT: Questions regarding this request for comments should be directed to Ingrid Mitchem, Director, Industry Trade Advisory Center, at (202) 482-3268.

SUPPLEMENTARY INFORMATION:

Background

Section 135 of the 1974 Trade Act, as amended (19 U.S.C. 2155), directed the President to obtain information and advice from representative elements of the private sector and the non-Federal government sector regarding U.S. trade policy and trade negotiation objectives. Among other mechanisms, Section 135(c)(2) of the 1974 Trade Act provides:

(2) The President shall establish such sectoral or functional advisory committees as may be appropriate. Such committees shall, insofar as is practicable, be representative of all industry, labor, agricultural, or service interests (including small business interests) in the sector or functional areas concerned. In organizing such committees, the United States Trade Representative and the Secretaries of Commerce, Labor, Agriculture, the Treasury, or other executive departments, as appropriate, shall—

(A) Consult with interested private organizations; and

(B) Take into account such factors as—

(i) Patterns of actual and potential competition between United States industry and agriculture and foreign enterprise in international trade,

(ii) The character of the non-tariff barriers and other distortions affecting such competition,

(iii) The necessity for reasonable limits on the number of such advisory committees,

(iv) The necessity that each committee be reasonably limited in size, and

(v) In the case of each sectoral committee, that the product lines covered by each committee be reasonably related.

The accompanying legislative history indicated that the sectoral and functional committees were to “be representative of the producing sectors of our economy” to “strengthen the hand of U.S. negotiators by improving their knowledge and familiarity with the problems domestic producers face in obtaining access to foreign markets.” S. Rep. 1298, 93d Cong., 2d Sess. 102 (1974).

Pursuant to Presidential delegation of this authority, USTR and Commerce have established and co-chair sixteen ITACs, plus an ITAC Committee of Chairs. The ITACs provide information and advice addressing the concerns of specific industry sectors for use by the USTR and the Secretary of Commerce in developing U.S. trade policy and negotiating positions.

To date, USTR and Commerce, with minor exceptions, have limited the viewpoints represented on the ITACs to those of industry stakeholders based on the need to obtain technical and detailed sectoral advice from the representatives of the producing sectors and the existence of other fora within the USTR-administered trade advisory committee system which provide for advice from representatives of other viewpoints, such as the Trade and Environment Policy Advisory Committee, the Intergovernmental Policy Advisory Committee on Trade, the Labor Advisory Committee for Trade Negotiations and Trade Policy, and the Trade Advisory Committee on Africa. USTR and Commerce both have received multiple inquiries recently regarding the appropriate viewpoints to be represented on the ITACs. As a result of those inquiries, in accordance with Section 135(c)(2)(A) of the 1974 Trade Act, USTR and Commerce have decided to seek comments from the public on the appropriate scope of viewpoints represented on the ITACs.

In submitting comments regarding what viewpoints should be represented, please address: How the proposed viewpoint would improve the quality of information and advice provided to the Secretary and the USTR through the ITACs; how the proposed specific perspective would add value and contribute to the ITACs' mission to provide information and advice addressing the concerns of specific industry sectors to assist the USTR and the Secretary in developing U.S. trade policy and negotiating positions; how such viewpoints could be effectively incorporated into the existing ITAC structure (i.e., on which specific ITAC would that viewpoint be appropriate); and whether such viewpoints may be more effectively incorporated into other fora within the trade advisory system. (Further information on trade advisory committees is available at http://www.ustr.gov/about-us/intergovernmental-affairs/advisory-committees/).

General information concerning the Industry Trade Advisory Committees, including a list of the subject areas of the sixteen ITACs, is available at http://www.trade.gov/itac/.

Requirements for Submission

Written comments must be received by 5 p.m. EST on May 25, 2010. In order to ensure the most timely and expeditious receipt and consideration of comments, USTR and Commerce have arranged to accept on-line submissions via www.regulations.gov. To submit comments via www.regulations.gov, enter docket number ITA-2010-0001 on the home page and click “go”. The site will provide a search-results page listing all documents associated with this docket. Find a reference to this notice by selecting “Notice” under “Document Type” on the left side of the search results page, and click on the link entitled “Send a Comment or Submission.” For further information on using the http://www.regulations.gov/ Web site, please consult the resources provided on the Web site by clicking on “How to Use This Site” on the left side of the home page.

The www.regulations.gov Web site provides the option of making submissions by filling in a “General Comments” field, or by attaching a document. We expect that most submissions will be provided in an attached document. If a document is attached, it is sufficient to type “See attached” in the “General Comments” field.

We strongly urge submitters to avail themselves of the electronic filing, if at all possible. If an on-line submission is impossible, alternative arrangements must be made with Ms. Mitchem, Director, Industry Trade Advisory Center, at (202) 482-3268, prior to delivery for the receipt of such submissions. General information concerning the Office of the United States Trade Representative may be obtained by accessing its Internet Web site (http://www.ustr.gov). General information concerning the Department of Commerce may be obtained by accessing its Internet Web site (http://www.commerce.gov).

Dated: April 20, 2010.
Nicole Y. Lamb-Hale,
Assistant Secretary for Manufacturing and Services, U.S. Department of Commerce.
Dated: April 19, 2010.
Myesha Ward,
Acting Assistant United States Trade Representative, Intergovernmental Affairs and Public Engagement.

[FR Doc. 2010-9650 Filed 4-26-10; 8:45 am]

BILLING CODE 3190-DR-P